DEPARTMENT OF COMMERCE

International Trade Administration

[A-570-952]

Narrow Woven Ribbons With Woven Selvedge From the People's Republic of China: Final Results of Antidumping Duty Administrative Review

AGENCY: Enforcement and Compliance, International Trade Administration, Department of Commerce.

SUMMARY: On June 14, 2016, the Department of Commerce (the “Department”) published the preliminary results of the administrative review of the antidumping duty order on narrow woven ribbons with woven selvedge (“NWR”) from the People's Republic of China (“PRC”). The period of review (“POR”) is September 1, 2014, through August 31, 2015. The review covers one company, Yama Ribbons Co., Ltd. (“Yama Ribbons”). We invited interested parties to comment on our preliminary results. None were received. Accordingly, for the final results, we continue to find that Yama Ribbons did not have reviewable transactions during the POR.

DATES: Effective October 19, 2016.

FOR FURTHER INFORMATION CONTACT: Aleksandras Nakutis or Karine Gziryan, AD/CVD Operations, Office IV, Enforcement and Compliance, International Trade Administration, U.S. Department of Commerce, 1401 Constitution Avenue NW., Washington, DC 20230; telephone: (202) 482-3147 and (202) 482-4081, respectively.

SUPPLEMENTARY INFORMATION:

Background

On June 14, 2016, the Department published the Preliminary Results ¹ in accordance with section 751(a)(1)(B) of the Tariff Act of 1930, as amended (“the Act”). This review covers one company, Yama Ribbons Co., Ltd. (“Yama Ribbons”), for the POR of September 1, 2014, through August 31, 2015.² The Department determined in the underlying investigation that merchandise produced and exported by Yama Ribbons is excluded from the antidumping duty order.³ However, merchandise which Yama Ribbons exports but did not produce, as well as merchandise Yama Ribbons produces but is exported by another company, remain subject to the Order. We invited interested parties to submit comments on the Preliminary Results, but no comments were received. The Department has conducted this review in accordance with section 751(a)(1)(B) of the Act.

¹ See Narrow Woven Ribbons with Woven Selvedge From the People's Republic of China: Preliminary Results of Antidumping Administrative Review; 2014-2015, 81 FR 38671 (June 14, 2016) (“Preliminary Results”).

² See Initiation of Antidumping and Countervailing Duty Administrative Reviews, 80 FR 69193 (November 9, 2015) (“Initiation Notice”).

³ See Notice of Antidumping Duty Orders: Narrow Woven Ribbons With Woven Selvedge From Taiwan and the People's Republic of China: Antidumping Duty Orders, 75 FR 53632 (September 1, 2010), as amended in Narrow Woven Ribbons With Woven Selvedge From Taiwan and the People's Republic of China: Amended Antidumping Duty Orders, 75 FR 56982 (September 17, 2010) (“Order”).

Scope of the Order

The products covered by the order are narrow woven ribbons with woven selvedge. The merchandise subject to the order is classifiable under the Harmonized Tariff Schedule of the United States (“HTSUS”) subheadings 5806.32.1020; 5806.32.1030; 5806.32.1050 and 5806.32.1060. Subject merchandise also may enter under HTSUS subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. Although the HTSUS subheadings are provided for convenience and customs purposes, the written product description in the Order remains dispositive.⁴

⁴ For a complete description of the scope of the order, please see “Decision Memorandum for Preliminary Results of Antidumping Duty Administrative Review: Narrow Woven Ribbons With Woven Selvedge from the People's Republic of China,” from Christian Marsh, Deputy Assistant Secretary for Antidumping and Countervailing Duty Operations, to Paul Piquado, Assistant Secretary for Enforcement and Compliance (“Preliminary Decision Memorandum”), dated June 7, 2016.

Final Determination of No Shipments

As noted the in Preliminary Results, Yama Ribbons had no reviewable transactions of merchandise during the POR.⁵ As there are no changes from, or comments upon, the Preliminary Results, the Department finds that there is no reason to modify its analysis. Therefore, we continue to find that Yama Ribbons did not have reviewable transactions during the POR.

⁵ See Preliminary Decision Memorandum at 5.

Assessment

The Department has determined, and U.S. Customs and Border Protection (“CBP”) shall assess, antidumping duties on all appropriate entries covered by this review, in accordance with 19 CFR 351.212(b)(1).⁶ The Department intends to issue assessment instructions to CBP 15 days after the date of publication of these final results of review. Pursuant to the Department's practice in non-market economy cases, because Yama Ribbons had no shipments of the subject merchandise during the POR, the Department intends to instruct CBP to liquidate entries of subject merchandise that entered under Yama Ribbons' rate at the PRC-wide rate of 247.26 percent.⁷

⁶ See 19 CFR 351.212(b)(1).

⁷ For a full discussion of this practice, see Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date of the final results of review, as provided by section 751(a)(2)(C) of the Act: (1) For exports of merchandise made by Yama Ribbons of merchandise it did not produce, the cash deposit rate is the PRC-wide rate of 247.26 percent, as stated in the Order; ⁸ (2) for previously investigated or reviewed PRC and non-PRC exporters which are not under review in this segment of the proceeding but which have been determined by Commerce to have a separate rate, the cash deposit rate will continue to be the exporter-specific rate published for the most recent period; (3) for all PRC exporters of subject merchandise that have not been found to be entitled to a separate rate, the cash deposit rate will be the PRC-wide rate of 247.26 percent; and (4) for all non-PRC exporters of subject merchandise which have not received their own rate, the cash deposit rate will be the rate applicable to the PRC exporter(s) that supplied that non-PRC exporter. These deposit requirements, when imposed, shall remain in effect until further notice.

⁸ See Order.

Notification to Importers Regarding the Reimbursement of Duties

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Notification to Interested Parties

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act.

Dated: October 12, 2016.
Paul Piquado,
Assistant Secretary for Enforcement and Compliance.

[FR Doc. 2016-25306 Filed 10-18-16; 8:45 am]

BILLING CODE 3510-DS-P